FEDERAL COMMUNICATIONS COMMISSION

47 CFR Part 20

[WC Docket No. 05-196; GN Docket No. 11-117; PS Docket No. 07-114; FCC 11-107]

Wireless E911 Phase II Location Accuracy Requirements

AGENCY: Federal Communications Commission.

ACTION: Final rule; announcement of effective date.

SUMMARY: In this document, the Commission announces that the Office of Management and Budget (OMB) has approved, for a period of three years, the information collection associated with the Commission's Wireless E911 Phase II Location Accuracy Requirements, Third Report and Order's 911 service rules. This notice is consistent with the Order, which stated that the Order would become effective 60 days after publication in the Federal Register, subject to OMB approval for new information collection requirements.

DATES: The amendment to 47 CFR 20.18 published at 76 FR 59916, September 28, 2011, is effective July 25, 2012.

FOR FURTHER INFORMATION CONTACT: Patrick Donovan, Policy and Licensing Division, Public Safety and Homeland Security Bureau, at (202) 418-2413, or email: patrick.donovan@fcc.gov.

SUPPLEMENTARY INFORMATION: This document announces that, on May 17, 2012, OMB approved, for a period of three years, the information collection requirements relating to the Wireless E911 Phase II Location Accuracy Requirements contained in the Commission's Order, FCC 11-107, published at 76 FR 59916, September 28, 2011. The OMB Control Number is 3060-1147. The Commission publishes this notice as an announcement of the effective date of the rules. If you have any comments on the burden estimates listed below, or how the Commission can improve the collections and reduce any burdens caused thereby, please contact Judith B. Herman, Federal Communications Commission, Room 1-B441, 445 12th Street SW., Washington, DC 20554. Please include the OMB Control Number, 3060-1147, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 17, 2012, for the information collection requirements contained in the modifications to the Commission's rules in 47 CFR Part 20. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1147.

The foregoing notice is required by the Paperwork Reduction Act of 1995, Public Law 104-13, October 1, 1995, and 44 U.S.C. 3507.

The total annual reporting burdens and costs for the respondents are as follows:

OMB Control Number: 3060-1147.

OMB Approval Date: May 17, 2012.

OMB Expiration Date: May 31, 2015.

Title: Wireless E911 Phase II Location Accuracy Requirements.

Form Number: N/A.

Respondents: Individuals and households; Business or other for-profit entities; Not-for-profit institutions; Federal Government; and State, Local, or Tribal Government.

Number of Respondents and Responses: 4,898 respondents; 9,514 responses.

Estimated Time per Response: 5.5867143 hours (average).

Frequency of Response: On-occasion reporting requirements and third party disclosure.

Obligation to Respond: Mandatory. Statutory authority for this information collection is contained in 47 U.S.C. 151, 154 and 332 of the Communications Act of 1934, as amended.

Total Annual Burden: 53,152 hours.

Total Annual Cost: N/A.

Nature and Extent of Confidentiality: An assurance of confidentiality is not offered because this information collection does not require the collection of personally identifiable information (PII) from individuals.

Needs and Uses: The Commission adopted and released a Third Report and Order, FCC 11-107, PS Docket No. 07-114, which provides that new Commercial Mobile Radio Service (CMRS) providers, meeting the definition of covered CMRS providers in Section 20.18 and deploying networks subsequent to the effective date of the Third Report and Order that are not an expansion or upgrade of an existing CMRS network, must meet the handset-based location accuracy standard from the start. Consequently, the rule requires new CMRS providers launching new stand-alone networks during the eight-year implementation period for handset-based CMRS wireless licensees to meet the applicable handset-based location accuracy standard in effect of the time of deployment. Therefore, new rule § 20.18(h)(2)(iv) specifies that new CMRS providers must comply with paragraphs (h)(2)(i)-(iii) of § 20.18, which are the location accuracy requirements for handset-based carriers. OMB approved the information collection for those rule paragraphs, which the Second Report and Order adopted, on March 30, 2011, under OMB Control No. 3060-1147. The Commission announced OMB's approval and the effective date in 76 FR 23713, April 28, 2011, of the Federal Register.

As a result, under the new rule section adopted by Third Report and Order, all new CMRS providers, in delivering emergency calls for Enhanced 911 service, must satisfy the handset-based location accuracy standard at either a county-based or Public Safety Answering Point (PSAP)-based geographic level. Thus, in accordance with the new rule and under the paragraph provision of § 20.18(h)(2)(i), new CMRS providers must meet the following initial benchmark for the specified handset-based location accuracy requirements: “[t]wo years from January 18, 2011, 50 meters for 67 percent of calls, and 150 meters for 80 percent of calls, on a per-county or per-PSAP basis.” Similarly, in accordance with the new rule and under the paragraph provisions of § 20.18(h)(2)(i)-(iii), new CMRS providers may exclude up to 15 percent of the counties or PSAP areas they serve due to heavy forestation that limits handset-based technology accuracy in those counties or areas.

Therefore, new CMRS providers will be required to file a list of the specific counties where they are utilizing their respective exclusions. In its September 2010 Second Report and Order, 75 FR 70604, November 18, 2010, the Commission found that permitting this exclusion properly but narrowly accounts for the known technical limitations of handset-based location accuracy technologies, while ensuring that the public safety community and the public at large are sufficiently informed of these limitations.

When they have begun deploying their new networks, the new CMRS providers must submit initial reports, as the Commission will announce after OMB approval of this revised information collection, with a list of the areas that they are permitted to exclude from the handset-based location accuracy requirements. Accordingly, the Commission will specify the procedures for electronic filing into PS Docket No. 07-114, consistent with the current OMB approved information collection for handset-based carriers, and new CMRS providers must send copies of the exclusion reports to the National Emergency Number Association, the Association of Public-Safety Communications Officials-International, and the National Association of State 9-1-1 Administrators.

Further, the rules adopted by the Commission's September 2010 Second Report and Order, 75 FR 70604, November 18, 2010, also require that, two years after January 18, 2011, wireless carriers provide confidence and uncertainty data on a per call basis to PSAPs. Because the new rule adopted by the Third Report and Order considers new CMRS providers as providers covered under the definition of CMR providers pursuant to section 20.18 of the Commission's rules, new CMRS providers will also be subject to the information collection requirement to provide this confidence and uncertainty data.

Additionally, in view of the amended location accuracy requirements and the timeframes and benchmarks for handset-based wireless carriers to comply with them, in its September 2010 Second Report and Order, 75 FR 70604, November 18, 2010, the Commission recognized that the waiver process is suitable to address individual or unique problems, where the Commission can analyze the particular circumstances and the potential impact to public safety. Thus, similarly, the supporting statement for this information collection revision recognizes that new CMRS providers might file waiver requests and, therefore, be subject to a collection and reporting requirement.

The Third Report and Order found that requiring all new CMRS network providers to comply with the Commission's handset-based location accuracy standard is consistent with the regulatory principle of ensuring technological neutrality. Providers deploying new CMRS networks are free to use network-based location techniques, or to combine network and handset-based techniques, to provide 911 location information, provided that they meet the accuracy criteria applicable to handset-based providers. Given the long-term goal of universal support for one location accuracy standard, the Commission believed that such a mandate allows appropriate planning and ensures that new technology will comply with the most stringent location accuracy standard that applies to existing technology.

Section 20.18(h)(2)(iv) requires that providers of new CMRS networks that meet the definition of covered CMRS providers under paragraph (a) of this section must comply with the requirements of paragraphs (h)(2)(i)-(iii) of this section. For this purpose, a “new CMRS network” is a CMRS network that is newly deployed subsequent to the effective date of the Third Report and Order in PS Docket No. 07-114 and that is not an expansion or upgrade of an existing CMRS network.

The information provided by wireless carriers deploying new CMRS networks to report the counties or PSAP service areas where the carriers cannot provide E911 location accuracy at either the county or the PSAP level will furnish the Commission, affected PSAPs, state and local emergency agencies, public safety organizations and other interested stakeholders the supplementary data necessary for public safety awareness of those areas where it is most difficult to measure location accuracy during the benchmark periods for handset-based wireless carriers.

The provision of confidence and uncertainty data to PSAPs by the new CMRS providers and the SSPs responsible for transporting that data between them and PSAPs will enhance the PSAPs' ability to efficiently direct first responders to the correct location of emergencies to achieve the emergency response goals of the nation in responding expeditiously to emergency crisis situations and in ensuring homeland security.

Federal Communications Commission.
Marlene H. Dortch,
Secretary.

[FR Doc. 2012-18181 Filed 7-24-12; 8:45 am]

BILLING CODE 6712-01-P